NUCLEAR REGULATORY COMMISSION

Application for a License To Export Radioactive Waste

Pursuant to 10 CFR 110.70(b) “Public Notice of Receipt of an Application,” please take notice that the Nuclear Regulatory Commission (NRC) has received the following request for an export license. Copies of the request are available electronically through ADAMS and can be accessed through the Public Electronic Reading Room (PERR) link http://www.nrc.gov/reading-rm.html at the NRC Homepage.

A request for a hearing or petition for leave to intervene may be filed within thirty days after publication of this notice in the Federal Register. Any request for hearing or petition for leave to intervene shall be served by the requestor or petitioner upon the applicant, the office of the General Counsel, U.S. Nuclear Regulatory Commission, Washington, DC 20555; the Secretary, U.S. Nuclear Regulatory Commission, Washington, DC 20555; and the Executive Secretary, U.S. Department of State, Washington, DC 20520.

A request for a hearing or petition for leave to intervene may be filed with the NRC electronically in accordance with NRC's E-Filing rule promulgated in August 2007, 72 Fed. Reg 49139 (Aug. 28, 2007). Information about filing electronically is available on the NRC's public Web site at http://www.nrc.gov/site-help/e-submittals.html. To ensure timely electronic filing, at least 5 (five) days prior to the filing deadline, the petitioner/requestor should contact the Office of the Secretary by email at HEARINGDOCKET@NRC.GOV, or by calling (301) 415-1677, to request a digital ID certificate and allow for the creation of an electronic docket.

In addition to a request for hearing or petition for leave to intervene, written comments, in accordance with 10 CFR 110.81, should be submitted within thirty (30) days after publication of this notice in the Federal Register to Office of the Secretary, U.S. Nuclear Regulatory Commission, Washington, DC 20555, Attention: Rulemaking and Adjudications.

The information concerning this application for an export license follows.

NRC Export License Application
[Description of material]
Name of applicant, date of application, date received, application No., docket No. | Material type | Total quantity | End use | Destination
EnergySolutions, October 24, 2012, October 25, 2012, XW020, 11006061 | Class A radioactive waste in the form of contaminated dry active materials generated during refurbishment of a heat transport impeller and associated equipment from Ontario Power Generation's Pickering Station in Canada | Approximately 1178 pounds (approximately 68 cubic feet) of dry active materials, contaminated with various radionuclides in varying combinations. Activity levels will not exceed licensee possession limits, and materials will be handled in accordance with all U.S. federal and state regulations | Storage or disposal by the original generator, as required or authorized by their regulator | Canada.

Dated this 3rd day of December 2012, at Rockville, Maryland.
For the Nuclear Regulatory Commission.
Mark R. Shaffer,
Deputy Director, Office of International Programs.

[FR Doc. 2012-29673 Filed 12-6-12; 8:45 am]

BILLING CODE 7590-01-P